DEPARTMENT OF JUSTICE

Notice of Lodging of Proposed Consent Decree Under the Clean Water Act and Resource Conservation and Recovery Act

On May 14, 2015, the Department of Justice lodged a proposed Consent Decree with the United States District Court for the Central District of California in the lawsuit entitled United States v. Anaplex Corporation, Civil Action No. 2:15-CV-3615.

The United States filed this lawsuit under the Clean Water Act and the Resource Conservation and Recovery Act. The United States' complaint seeks injunctive relief and civil penalties for violations of regulations that govern discharges of pollutants to a publicly owned treatment works and the storage, disposal, and management of hazardous wastes at Anaplex's electroplating facility in Paramount, California. The consent decree requires the defendant to undertake a rinsewater use evaluation, implement ongoing pollution monitoring, report on hazardous waste handling measures, and pay a $142,200 civil penalty.

The publication of this notice opens a period for public comment on the Consent Decree. Comments should be addressed to the Assistant Attorney General, Environment and Natural Resources Division, and should refer to United States v. Anaplex Corporation, D.J. Ref. No. 90-5-1-1-10454. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ-ENRD, P.O. Box 7611, Washington, DC 20044-7611.

Please enclose a check or money order for $13.50 (25 cents per page reproduction cost) payable to the United States Treasury.

Henry Friedman,
Assistant Section Chief, Environmental Enforcement Section, Environment and Natural Resources Division.

[FR Doc. 2015-12115 Filed 5-19-15; 8:45 am]

BILLING CODE 4410-CW-P